FEDERAL COMMUNICATIONS COMMISSION

Notice of Public Information Collection(s) Being Reviewed by the Federal Communications Commission for Extension Under Delegated Authority, Comments Requested

June 24, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before August 30, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214 or email judith-b.herman@fcc.gov.

SUPPLEMENTARY INFORMATION: OMB Control Number: 3060-0950.

Title: Bidding Credits for Tribal Lands.

Form No.: N/A.

Type of Review: Extension of a currently approved collection.

Respondents: Business or other for-profit, not-for-profit institutions, and state, local or tribal government.

Number of Respondents and Responses: 5 respondents; 5 responses.

Estimated Time Per Response: 10 - 180 hours.

Frequency of Response: On occasion reporting requirement and recordkeeping requirement.

Obligation to Respond: Required to obtain or retain benefits. Statutory authority for this information collection is contained in 47 U.S.C. section 309(j).

Total Annual Burden: 1,000 hours.

Total Annual Cost: $180,000.

Privacy Act Impact Assessment: N/A.

Nature and Extent of Confidentiality: There is no need for confidentiality.

Needs and Uses: The Commission will submit this expiring information collection to the Office of Management and Budget (OMB) after this comment period to obtain the full three year clearance from them. There is no change in the reporting requirements. The Commission is reporting a 400 hour increase in burden which is due to an increase in the number of respondents.

On June 8, 2000, the Commission adopted a Report and Order which established rules and policies to encourage deployment of wireless services to tribal lands pursuant to the objectives and requirements of Section 309(j)(3) and (4) of the Communications Act of 1934, as amended, and in conjunction with data from the U.S. Census which indicted that communities on tribal lands have historically had less access to telecommunications services than any other segment of the population.

On March 7, 2003, the Commission adopted a Second Report and Order which extended the time period during which winning bidders can negotiate with relevant tribes to obtain the certification needed to obtain the bidding credit in a particular market from 90 days to 180 days. Further, the Second Report and Order clarified various administrative matters involved in implementing the bidding credit.

On August 18, 2004, the Commission adopted a Third Report and Order which raised the wireline telephone penetration rate at which tribal lands are eligible for a bidding credit from 70 percent or less, to 85 percent or less, and increased the amount of the bidding credit available to carriers that pledge to deploy on and serve qualifying tribal lands.

Since the last submission to the OMB, the Commission has adjusted the number of respondents/responses, burden hours and annual costs. This is due to the changing number licenses estimated to be auctioned during a given year. Although few applicants are actually affected, the number of potential participants is in the hundreds, perhaps thousands. In other words, while few applicants have sought to participate in the Tribal Land Bidding Credit (TLBC) program, almost all applicants for licenses for which TLBCs are available could take part in the program. Because so many could possibly take part in the TLBC program, the Commission needs to continue OMB approval for this expiring collection.

Federal Communications Commission.
Marlene H. Dortch,
Secretary,
Office of the Secretary,
Office of Managing Director.

[FR Doc. 2010-15789 Filed 6-29-10; 8:45 am]

BILLING CODE 6712-01-S